ENVIRONMENTAL PROTECTION AGENCY

40 CFR Part 81

[EPA-R04-OAR-2005-TN-0007-200527(c) FRL-8208-9]

Approval and Promulgation of Implementation Plans and Designation of Areas for Air Quality Planning Purposes; Tennessee; Redesignation of the Montgomery County, Tennessee Portion of the Clarksville-Hopkinsville 8-Hour Ozone Nonattainment Area to Attainment; Correcting Amendment

AGENCY: Environmental Protection Agency (EPA).

ACTION: Final rule; correcting amendment.

SUMMARY: This action corrects the effective date for the 8-hour ozone attainment designation for the Montgomery County, Tennessee portion of the Clarksville-Hopkinsville 8-hour ozone nonattainment area. The effective date for this attainment designation, which appears in title 40 Code of Federal Regulation (CFR) 81.343, was erroneously identified as October 24, 2005, in the Part 81 chart at the end of EPA's September 22, 2005, direct final redesignation rulemaking (70 FR 55559). This error is being corrected to reflect an effective date of November 21, 2005, for Montgomery County, Tennessee's 8-hour ozone attainment designation.

DATES: Effective Date: This correcting amendment is effective on August 11, 2006.

ADDRESSES: Copies of the documentation used in the action being corrected are available for inspection during normal business hours at the following location: U.S. Environmental Protection Agency, Region 4, 61 Forsyth Street, SW., Atlanta, Georgia 30303-8960. The Regional Office's official hours of business are Monday through Friday, 8:30 to 4:30, excluding federal holidays.

FOR FURTHER INFORMATION CONTACT: Dr. Egide Louis, Regulatory Development Section, Air Planning Branch, Air, Pesticides and Toxics Management Division, U.S. Environmental Protection Agency, Region 4, 61 Forsyth Street, SW., Atlanta, Georgia 30303-8960. The telephone number is (404) 562-9240. Dr. Louis can also be reached via electronic mail at louis.egide@epa.gov.

SUPPLEMENTARY INFORMATION: On September 22, 2005 (70 FR 55559), EPA published a direct final rulemaking action approving the redesignation of the Montgomery County, Tennessee portion of the Clarksville-Hopkinsville 8-hour ozone nonattainment area to attainment status. In the “Dates” section and in section VIII of the September 22, 2005, action, EPA stated that the rule would be effective on November 21, 2005, unless EPA received adverse written comments by October 24, 2005. 70 FR 55559, 55566. However, in the part 81 chart at the end of the rulemaking action, EPA erroneously identified the effective date for the attainment designation as October 24, 2005, instead of November 21, 2005. (70 FR 55568). Today, we are correcting the effective date of the Montgomery County, Tennessee 8-hour ozone attainment redesignation that appears in 40 CFR 81.343, so that it correctly reflects the effective date of the redesignation rulemaking, which is November 21, 2005.

EPA has determined that today's action falls under the “good cause” exemption in section 553(b)(3)(B) of the Administrative Procedure Act (APA) which, upon finding “good cause,” authorizes agencies to dispense with public participation where public notice and comment procedures are impracticable, unnecessary or contrary to the public interest. Public notice and comment for this action are unnecessary because today's action to correct the effective date of the 8-hour ozone attainment redesignation for Montgomery County, Tennessee has no substantive impact on EPA's September 22, 2005, redesignation approval. That is, the correction of the 8-hour ozone attainment redesignation effective date makes no substantive difference to EPA's redesignation analysis as set out in our September 22, 2005, rule, and merely corrects an error made in that prior rulemaking. In addition, EPA can identify no particular reason why the public would be interested in being notified of the correction of this error or in having the opportunity to comment on the correction prior to this action being finalized, since this correction action does not change the redesignation approval and merely conforms the effective date of the attainment redesignation to coincide with the effective date of the redesignation rulemaking. See, 70 FR 55559, 55568.

EPA also finds that there is good cause under APA section 553(d)(3) for this correction to become effective on the date of publication of this action. Section 553(d)(3) of the APA allows an effective date less than 30 days after publication “as otherwise provided by the agency for good cause found and published with the rule.” 5 U.S.C. 553(d)(3). The purpose of the 30-day waiting period prescribed in APA section 553(d)(3) is to give affected parties a reasonable time to adjust their behavior and prepare before the final rule takes effect. Today's rule, however, does not create any new regulatory requirements such that affected parties would need time to prepare before the rule takes effect. Rather, today's rule merely corrects an inadvertent error by conforming the effective date of the 8-hour ozone attainment redesignation for Montgomery County, Tennessee to the effective date of EPA's rulemaking approving the redesignation. For these reasons, EPA finds good cause under APA section 553(d)(3) for this correction to become effective on the date of publication of this action.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely corrects an inadvertent error by conforming the effective date of the 8-hour ozone attainment redesignation for Montgomery County, Tennessee to the effective date of EPA's rulemaking approving the redesignation, and imposes no additional requirements beyond those imposed by state law. Accordingly, the Administrator certifies that this rule will not have a significant economic impact on a substantial number of small entities under the Regulatory Flexibility Act (5 U.S.C. 601 et seq.). Because this rule merely corrects an inadvertent error by conforming the effective date of the 8-hour ozone attainment redesignation for Montgomery County, Tennessee to the effective date of EPA's rulemaking approving the redesignation, and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This rule also does not have Federalism implications because it does not have substantial direct effects on the states, on the relationship between the national government and the states, or on the distribution of power and responsibilities among the various levels of government, as specified in Executive Order 13132 (64 FR 43255, August 10, 1999). This rule merely corrects an inadvertent error by conforming the effective date of the 8-hour ozone attainment redesignation for Montgomery County, Tennessee to the effective date of EPA's rulemaking approving the redesignation, and does not alter the relationship or the distribution of power and responsibilities established in the Clean Air Act. This rule also is not subject to Executive Order 13045 “Protection of Children from Environmental Health Risks and Safety Risks” (62 FR 19885, April 23, 1997), because it is not economically significant. In addition, this rule does not involve technical standards, thus the requirements of section 12(d) of the National Technology Transfer and Advancement Act of 1995 (15 U.S.C. 272 note) do not apply. This rule also does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act (CAA), petitions for judicial review of this action must be filed in the United States Court of Appeals for the appropriate circuit by October 10, 2006. Filing a petition for reconsideration by the Administrator of this final rule does not affect the finality of this rule for the purposes of judicial review nor does it extend the time within which a petition for judicial review may be filed, and shall not postpone the effectiveness of such rule or action. This action may not be challenged later in proceedings to enforce its requirements. (See CAA section 307(b)(2).)

List of Subjects in 40 CFR Part 81

Environmental protection, Air pollution control, National parks, Wilderness areas.

Dated: July 20, 2006.
A. Stanley Meiburg,
Acting, Regional Administrator, Region 4.

40 CFR part 81 is amended as follows:

PART 81—[CORRECTED]

1. The authority citation for part 81 continues to read as follows:

Authority: 42 U.S.C. 7401 et seq.

2. In § 81.343, the table entitled “Tennessee_Ozone (8-Hour Standard)” is amended by revising the entry for “Clarksville-Hopkinsville, TN-KY: Montgomery County” to read as follows:

§ 81.343 Tennessee.

* * * * *

Tennessee—Ozone (8-Hour Standard)
Designated area | Designationᵃ: Date ¹ | Designationᵃ: Type | Category/classification: Date ¹ | Category/classification: Type
* * * * * * *
Clarksville-Hopkinsville, TN-KY Area:
Montgomery County | 11/ 21/05 | Attainment
* * * * * * *
ᵃ Includes Indian Country located in each county or area, except as otherwise specified.
¹ This date is June 15, 2004, unless otherwise noted.

* * * * *

[FR Doc. E6-13161 Filed 8-10-06; 8:45 am]

BILLING CODE 6560-50-P